DEPARTMENT OF COMMERCE

International Trade Administration

[A-588-804]

Ball Bearings and Parts Thereof From Japan: Notice of Court Decision Not in Harmony With the Final Results of Antidumping Duty Administrative Review and Notice of Amended Final Results of Antidumping Duty Administrative Review; 2005-2006

AGENCY: Enforcement and Compliance, International Trade Administration, Commerce.

SUMMARY: On December 24, 2014, the United States Court of International Trade (CIT or Court) issued final judgment in JTEKT Corp. v. United States, Consol. Court No. 07-377 (JTEKT Corp.), affirming the Department of Commerce's (the Department) final results of redetermination pursuant to remand.¹

¹ See Redetermination Pursuant to Court Remand, Consol. Court No. 07-377, available at http://enforcement.trade.gov/remands/ (Final Second Remand).

Consistent with the decision of the United States Court of Appeals for the Federal Circuit (CAFC) in Timken Co. v. United States, 893 F.2d 337 (Fed. Cir. 1990) (Timken), as clarified by Diamond Sawblades Mfrs. Coalition v. United States, 626 F.3d 1374 (Fed. Cir. 2010) (Diamond Sawblades), the Department is notifying the public that the final judgment in this case is not in harmony with the Department's final results of the administrative review of the antidumping duty order on ball bearings and parts thereof from Japan covering the period May 1, 2005 through April 30, 2006, and is amending the final results with respect to Aisin Seiki Co., Ltd.

DATES: Effective January 3, 2015.

FOR FURTHER INFORMATION CONTACT: Hermes Pinilla, Office I, Enforcement and Compliance, International Trade Administration, U.S. Department of Commerce, 14th Street and Constitution Avenue NW., Washington, DC 20230; telephone: (202) 482-3477.

SUPPLEMENTARY INFORMATION:

Background

On October 12, 2007, the Department published AFBs 17.² Aisin Seiki Co., Ltd. (Aisin) and other parties appealed AFBs 17 to the CIT and on September 3, 2009, the CIT granted the Department's request for a voluntary remand to examine its calculation of constructed export price (CEP) for certain U.S. sales made by Aisin. After reexamining Aisin's CEP calculation, the Department determined it appropriate to recalculate Aisin's dumping margin.³ On May 5, 2011, the CIT affirmed, in part, the Department's first remand, which resulted in a weighted-average dumping margin of 1.13 percent for Aisin.⁴ The Court remanded issues regarding other respondent companies, relating to the Department's use of zeroing and model match methodology. In Final Second Remand, the Department further explained these issues but did not recalculate the dumping margins for any other respondents in the litigation.⁵ The Court affirmed the Department's second remand in its entirety on December 24, 2014, and entered judgment.

² Ball Bearings and Parts Thereof From France, Germany, Japan, Italy, Japan, Singapore, and the United Kingdom: Final Results of Antidumping Duty Administrative Reviews and Rescission of Review in Part, 72 FR 58053 (October 12, 2007) (AFBs 17).

³ See Redetermination Pursuant to Remand, JTEKT Corporation, et al. v. United States, Consol. Court No. 07-00377 (CIT September 2, 2009), dated December 4, 2009 (Final First Remand).

⁴ See JTEKT Corp. v. United States, 768 F. Supp. 2d 1333 (2011).

⁵ See Final Second Remand.

Timken Notice

In its decision in Timken, 893 F.2d at 341, as clarified by Diamond Sawblades, the CAFC held that, pursuant to section 516A(e) of the Tariff Act of 1930, as amended (the Act), the Department must publish a notice of a court decision that is not “in harmony” with a Department determination and must suspend liquidation of entries pending a “conclusive” court decision. The CIT's December 24, 2014, judgment affirming the Final Second Remand constitutes a final decision of that court that is not in harmony with AFBs 17. This notice is published in fulfillment of the publication requirements of Timken.

Amended Final Results

Because there is now a final court decision, the Department is amending AFBs 17 with respect to Aisin's weighted-average dumping margin as redetermined in the Final First Remand. The revised weighted-average dumping margin for the period May 1, 2005, to April 30, 2006, for Aisin is 1.13%.

Accordingly, the Department will continue the suspension of liquidation of the subject merchandise pending the expiration of the period of appeal or, if appealed, pending a final and conclusive court decision. In the event the Court's ruling is not appealed, or if appealed and upheld by the Federal Circuit, the Department will instruct U.S. Customs and Border Protection (CBP) to assess antidumping duties on entries of the subject merchandise exported by Aisin using the revised assessment rate calculated by the Department in the Final First Remand and listed above.

Cash Deposit Requirements

Because we revoked the antidumping duty order on ball bearings and parts thereof from Japan effective September 15, 2011, no cash deposits for estimated antidumping duties on future entries of subject merchandise will be required.⁶

⁶ See Ball Bearings and Parts Thereof From Japan and the United Kingdom: Final Results of Sunset Reviews and Revocation of Antidumping Duty Orders, 79 FR 16771 (March 26, 2014).

Notification to Interested Parties

This notice is issued and published in accordance with sections 516A(e)(1), 751(a)(1), and 777(i)(1) of the Act.

Dated: January 15, 2015.
Paul Piquado,
Assistant Secretary for Enforcement and Compliance.

[FR Doc. 2015-01053 Filed 1-21-15; 8:45 am]

BILLING CODE 3510-DS-P